DEPARTMENT OF TRANSPORTATION

Surface Transportation Board

[STB Docket No. AB-6 (Sub-No. 468X)]

BNSF Railway Company—Abandonment Exemption—in Kootenai County, ID

On August 10, 2009, BNSF Railway Company (BNSF) filed with the Board a petition under 49 U.S.C. 10502 for exemption from the provisions of 49 U.S.C. 10903 to abandon a 6.23-mile rail line between milepost 6.10, near Post Falls, and milepost 12.33, at Coeur d'Alene, in Kootenai County, ID.¹ The line traverses United States Postal Service Zip Codes 83814 and 83854 and includes the stations of Post Falls and Coeur d'Alene.²

¹ In its environmental and historic reports, BNSF erroneously stated that the end of the line was milepost 12.34; BNSF now indicates that the portion of the line between milepost 12.33 and 12.34 has already been abandoned.

² The line contains federally granted rights-of-way. Any documentation in BNSF's possession will be made available promptly to those requesting it.

In addition to an exemption from 49 U.S.C. 10903, BNSF seeks exemption from the offer of financial assistance (OFA) and the public use provisions at 49 U.S.C. 10904 and 49 U.S.C. 10905, respectively. In support, BNSF contends that an exemption from these provisions is necessary to permit conveyance of the line so that it can be developed as part of the Coeur D'Alene Education Corridor. BNSF states that it has received a firm offer to purchase the portion of the line between milepost 8.66 and milepost 12.33 for development of this corridor, and that the Bureau of Land Management (BLM) has reached a tentative agreement with the City of Coeur D'Alene to exchange the federally granted right-of-way on the line for other land in the area that is more suitable to BLM's use. The portion of the line between milepost 6.10 and milepost 8.66 will be reclassified as industry track and used for storage of surplus rail cars. These additional exemption requests will be addressed in the final decision.

The interest of railroad employees will be protected by the conditions set forth in Oregon Short Line R. Co.—Abandonment—Goshen, 360 I.C.C. 91 (1979).

By issuing this notice, the Board is instituting an exemption proceeding pursuant to 49 U.S.C. 10502(b). A final decision will be issued by November 27, 2009.

Any OFA under 49 CFR 1152.27(b)(2) will be due no later than 10 days after service of a decision granting the petition for exemption, unless the Board grants the requested exemption from the OFA process. Each OFA must be accompanied by a $1,500 filing fee. See 49 CFR 1002.2(f)(25).

All interested persons should be aware that, following abandonment of rail service and salvage of the line, the line may be suitable for other public use, including interim trail use. Unless the Board grants the requested exemption from the public use provisions, any request for a public use condition under 49 CFR 1152.28 or for trail use/rail banking under 49 CFR 1152.29 will be due no later than September 17, 2009. Each trail use request must be accompanied by a $200 filing fee. See 49 CFR 1002.2(f)(27).

All filings in response to this notice must refer to STB Docket No. AB-6 (Sub-No. 468X), and must be sent to: (1) Surface Transportation Board, 395 E Street, SW., Washington, DC 20423-0001; and (2) Kristy Clark, BNSF Railway Company, 2500 Lou Menk Drive, Fort Worth, TX 76131. Replies to the petition are due on or before September 17, 2009.

Persons seeking further information concerning abandonment procedures may contact the Board's Office of Public Assistance, Governmental Affairs, and Compliance at (202) 245-0238 or refer to the full abandonment or discontinuance regulations at 49 CFR part 1152. Questions concerning environmental issues may be directed to the Board's Section of Environmental Analysis (SEA) at (202) 245-0305. [Assistance for the hearing impaired is available through the Federal Information Relay Service (FIRS) at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at “http://www.stb.dot.gov.”

Decided: August 24, 2009.
By the Board, Joseph H. Dettmar, Acting Director, Office of Proceedings.
Kulunie L. Cannon,
Clearance Clerk.

[FR Doc. E9-20752 Filed 8-27-09; 8:45 am]

BILLING CODE 4915-01-P